ENVIRONMENTAL PROTECTION AGENCY

[FRL-7620-5]

Region III Water Protection Division; Revision to Delaware's NPDES Program; State of Delaware's Submittal of a Substantial Program Revision to Its Authorized National Pollutant Discharge Elimination System (NPDES) Program

AGENCY: Environmental Protection Agency (EPA).

ACTION: Notice of revision, public comment period, and opportunity to request a public hearing.

SUMMARY: The State of Delaware has submitted to EPA for review and approval revisions to the regulations implementing the State's National Pollutant Discharge Elimination System (NPDES) program, which was approved by EPA pursuant to section 402 of the Clean Water Act (CWA). The State has made significant revisions to sections 1 through 8 and sections 10 through 14 of its Department of Natural Resources and Environmental Control's (DNREC) March 15, 1974 Regulations Governing the Control of Water Pollution, and EPA has determined that the DNREC's Revision constitutes a substantial revision to Delaware's authorized NPDES program. Accordingly, EPA requests public comment and is providing notice of an opportunity to request a public hearing on the submitted regulations. EPA seeks public comments on whether to approve or disapprove the revisions to Delaware's authorized NPDES program, and a public hearing will be held if there is significant public interest based on the requests received. Copies of the Delaware Regulation Revisions are available for public inspection as indicated in the ADDRESSES section.

DATES: Comments and/or requests for public hearing must be received before March 26, 2004.

ADDRESSES: Comments should be addressed to Evelyn MacKnight, U.S. EPA, Region III, 3WP11, 1650 Arch Street, Philadelphia, Pennsylvania, 19103.

FOR FURTHER INFORMATION CONTACT: Evelyn MacKnight, (215) 814-5717, at the above address. Those who are deaf or hearing-impaired may use the Relay Service at 1-800-654-5984 and request that the call be relayed.

SUPPLEMENTARY INFORMATION: Section 402 of the Federal Clean Water Act (CWA) created the NPDES program under which the Administrator of EPA may issue permits for the discharge of pollutants into the waters of the United States under conditions required by the CWA. Section 402(b) allows States to assume NPDES program responsibilities upon approval by EPA. On April 1, 1974, Delaware was authorized by EPA to administer the NPDES program; the State also received the authority to administer the General Permits program on October 23, 1992.

EPA has issued a regulation at 40 CFR part 123 that establishes the requirements for NPDES State Programs. Section 123.62 establishes procedures for revision of authorized NPDES State Programs. Pursuant to § 123.62(a), a State may initiate a program revision and must keep EPA informed of proposed modifications to its regulatory authority. On July 28, 2003, the State of Delaware submitted its regulation revisions for formal review by EPA. Pursuant to § 123.62(b)(1), a State program submittal is complete whenever the State submits such documents as EPA determines are necessary under the circumstances. In this instance, EPA determined that the State submittal was complete on November 19, 2003, with the submission of a statement from the State's Attorney General's office which certified that the regulations were duly adopted pursuant to State law. Section 123.62(b)(2) requires EPA to issue public notice by publication in the Federal Register and in newspapers having Statewide coverage, and to provide a period of public comment of at least 30 days whenever the Agency determines that a program revision is substantial. EPA has determined that the Delaware Regulation Revision, which is described below, constitutes a substantial revision to Delaware's NPDES program. Section 123.62(b)(2) also requires EPA to hold a public hearing regarding the proposed revision “if there is significant public interest based on requests received.”

The Delaware Regulation Revision includes amendments to sections 1 through 8 and sections 10 through 14 of the DNREC's Regulations Governing the Control of Water Pollution. The majority of the amendments focus on DNREC's issuance and administration of NPDES permits in the State of Delaware. In addition, DNREC updated its regulations for the construction and operation of wastewater/pollution control facilities and adopted regulations that formalize a periodic assessment of municipal treatment plant performance and infrastructure needs. Regulations were also adopted to address administrative procedures for evaluating and issuing a State certification that an activity will be conducted in such a manner that won't violate the applicable surface water quality criteria or standards, as required by Federal law. Delaware also included a number of water quality-based requirements, including the determination of Total Maximum Daily Loads (TMDLs), allowances for intake credits, and consideration for erosion and corrosion from facilities' piping.

At the close of the public comment period (including, if necessary, the public hearing), the EPA Regional Administrator, with the concurrence of the Associate General Counsel for Water and the Director of the Office of Compliance and Enforcement, will decide whether to approve or disapprove the Delaware Regulation Revision as a revision to the Delaware NPDES program. The decision to approve or disapprove will be based upon satisfying or meeting the requirements of the CWA and 40 CFR part 123. The Delaware Regulation Revision may be reviewed by the public from 8 a.m. to 4 p.m. at the EPA office in Philadelphia, Monday to Friday (excluding holidays), at the address appearing earlier in this notice. Copies of the submittal may be obtained for a fee by contacting Evelyn MacKnight as indicated in the ADDRESSES section.

All comments or objections received by March 26, 2004, will be considered by EPA before taking final action on the program revision.

Please bring the foregoing to the attention of persons whom you know are interested in this matter. All written comments and questions on this matter should be addressed to Evelyn MacKnight at the above address or telephone number.

Dated: February 4, 2004.
Thomas Voltaggio,
Acting Regional Administrator, Region III.

[FR Doc. 04-2817 Filed 2-9-04; 8:45 am]

BILLING CODE 6560-50-P